DEPARTMENT OF STATE

[Public Notice 4846]

Bureau of Educational and Cultural Affairs (ECA) Request for Grant Proposals: Open Competition Seeking Professional Exchanges Programs in Africa, East Asia, Eurasia, Europe, the Near East/North Africa, South Asia and the Western Hemisphere

Announcement Type: New Grant.

Funding Opportunity Number: ECA/PE/C-05-01.

Catalog of Federal Domestic Assistance Number: 19.415.

Key Dates: none.

Application Deadline: November 19, 2004.

Executive Summary: The Office of Citizen Exchanges of the Bureau of Educational and Cultural Affairs announces an open competition for grants that support exchanges and build relationships between U.S. non-profit organizations and civil society groups in Africa, East Asia, Eurasia, Europe, the Near East/North Africa, South Asia and the Western Hemisphere. U.S. public and non-profit organizations meeting the provisions described in Internal Revenue code section 26 U.S.C. 501(c)(3) may submit proposals that support the goals of The Professional Exchanges Program: to promote mutual understanding and partnerships between key professional groups in the United States and counterpart groups in other countries through multi-phased exchange projects taking place over one-three years. To the fullest extent possible, programs should be two-way exchanges supporting roughly equal numbers of participants from the U.S. and foreign countries.

Proposed projects should be designed to foster dialogue and joint activities around one of four themes: (1) Religion, Community, Education and Political Process; (2) Governance, Accountability, and Transparency in Civil Society; (3) Conflict Prevention and Management; and (4) Respect for Cultural Identity and Creative Products. Through these people-to-people exchanges, the Bureau seeks to break down stereotypes that divide peoples, promote good governance, contribute to conflict prevention and management, and build respect for cultural expression and identity in a world that is experiencing rapid globalization. Projects should be structured to allow American professionals and their international counterparts in target countries to develop a common dialogue for dealing with shared challenges and concerns. Projects should include current or potential leaders who will effect positive change in their communities. Exchange participants might include community leaders, elected and professional government officials, religious leaders, educators, and proponents of democratic ideals and institutions, including for example, the media and judiciary, or others who influence the way in which different communities approach these issues. The Bureau is especially interested in engaging socially and economically diverse groups that may not have had extensive contact with counterpart institutions in the United States. Priority will be given to proposals that engage these audiences in countries with significant Muslim populations, or that engage educators or groups that influence youth in innovative ways.

Proposals that target countries/regions or themes not listed below will be deemed technically ineligible. Applicants should not submit proposals that address more than one region designated in the RFGP, except as specifically indicated. Applicants may submit no more than two (2) proposals per program theme and four (4) proposals total for this competition. Organizations that submit proposals that exceed these limits will result in having all of their proposals declared technically ineligible, and none of the submissions will be reviewed by a State Department panel.

For the purposes of this competition, eligible regions are Africa, East Asia, Eurasia, Europe, the Near East/North Africa, South Asia, and the Western Hemisphere. No guarantee is made or implied that grants will be awarded in all themes and for all countries listed.

Please note that this competition includes two target regions (Central and Eastern Europe and Eurasia) that were addressed in separate announcements in previous years. There will be no additional announcement for Central and Eastern Europe or Eurasia for FY-2005.

Requests for grant proposals on the creation, performance, or presentation of artistic work will be announced in a separate competition. Proposals involving the production or interpretation of artistic work WILL NOT be accepted under this competition, and if received, will be declared technically ineligible.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The Bureau seeks proposals that will address the following priority themes: (1) Religion, Community, Education and Political Process; (2) Governance, Accountability and Transparency in Civil Society; (3) Conflict Prevention and Management; and (4) Respect for Cultural Identity and Creative Products. The competition is based on the premise that people-to-people exchanges encourage and strengthen understanding of democratic values and nurture the social, political, and economic development of societies. Exchanges supported by institutional grants from the Bureau should operate at two levels: they should enhance partnerships between U.S. and foreign institutions, and they should establish a common dialogue to develop practical solutions for shared problems and concerns. The Bureau is particularly interested in projects that will create mutually beneficial and self-sustaining linkages between professional communities in the U.S. and their counterpart communities in other countries.

Applicants should identify the U.S. and foreign organizations and individuals with whom they are proposing to collaborate and describe previous cooperative activities, if any. Information about the mission, activities, and accomplishments of partner organizations should be included in the submission. Proposals should contain letters of commitment or support from partner organizations for the proposed project. Applicants should clearly outline and describe the role and responsibilities of all partner organizations in terms of project logistics, management and oversight. Proposals that show strong prospects for enhancing existing long-term collaboration or establishing new collaborative efforts among participating organizations will be deemed more competitive.

Competitive proposals will include the following:

• A brief description of the problem as it relates to the target country or region. (Proposals that request resources for an initial needs assessment will be deemed less competitive.);

• A clear statement of program objectives and projected outcomes that respond to Bureau goals for each theme in this competition. Desired outcomes should be described in qualitative and quantitative terms. (See the Program Monitoring and Evaluation section, below, for more information on project objectives and outcomes.);

• A proposed timeline, listing the optimal schedule for each program activity;

• A description of participant selection processes;

• Letters of support from foreign and U.S. partners. (Proposals that illustrate an ability to arrange U.S. and overseas activities with letters of support from prospective partner institutions will be considered more credible.);

• An outline of the applicant organization's relevant expertise in the project theme and country(ies);

• An outline of relevant experience managing previous exchange programs;

• Resumes of experienced staff who have demonstrated a commitment to monitor projects and ensure implementation;

• A comprehensive plan to evaluate whether program outcomes achieved met the specific objectives described in the narrative. (See the Program Monitoring and Evaluation section, below, for further guidance on evaluation.); and

• A post-grant plan that demonstrates how the grantee plans to maintain contacts initiated through the program. Applicants should discuss ways that U.S. and foreign participants or host institutions could collaborate and communicate after the ECA-funded grant has concluded. (See Review Criterion #5 below for more information on post-grant activities.)

The proposal narrative should clearly state the applicant's commitment to consult closely with the Public Affairs Section of the U.S. embassy in the relevant country(ies) to develop plans for project implementation and to select project participants. Applicants should state their willingness to invite representatives of the embassy(ies) and/or consulate(s) to participate in program sessions or site visits. Applicants are also encouraged to consult with Public Affairs Officers at U.S. embassies in relevant countries as they develop proposals responding to this RFGP. Narratives should state that all material developed for the project will prominently acknowledge Department of State ECA Bureau funding for the program. Proposals should also acknowledge U.S. embassy involvement in final selection of all participants.

Themes

(1) Religion, Community, Education, and Political Process

ECA welcomes projects that will promote understanding of the role of religion and education in shaping community and political life in the United States and participating countries. Proposals should build on program objectives that clearly address the following goals:

(1) To promote greater communication among religious groups, educators, community leaders, and persons involved in political discourse;

(2) To increase understanding of how religious, community, educational, and political leaders interact in U.S. society;

(3) To develop professional and personal linkages between U.S. and foreign individuals, institutions, and communities that will lead to sustained interaction in the future.

Programs should explore how religion and education can encourage openness, tolerance, respect, constructive dialogue, public service, and other ways to respect diversity while encouraging different communities to work together. To the fullest extent possible, programs should be two-way exchanges supporting roughly equal numbers of participants from the U.S. and foreign countries. Projects might include (but are not limited to) the following groups of participants: scholars (including legal scholars) and clerics, educators, community leaders, journalists, women leaders, or persons who work with youth.

Africa (single-country and multiple-country projects accepted)

Eligible countries: Chad, Cote d'Ivoire, Guinea, Mali, Mauritania, Niger, Nigeria, Senegal.

Contacts: Curtis Huff, tel: (202) 619-5972, e-mail: HuffCE@State.gov; Carol Herrera, tel: (202) 619-5405, e-mail: HerreraCA1@state.gov.

East Asia (single-country and multiple-country projects accepted)

Eligible countries: Indonesia, Malaysia, Philippines, Thailand.

Contact: Douglas McNeal, tel: (202) 260-5485, e-mail: McNealDB@state.gov.

Eurasia (single-country projects only)

Eligible countries: Kyrgyz Republic, Tajikistan.

Contact: Brent Beemer, tel: (202) 401-6887, e-mail: BeemerBT@state.gov.

Near East/North Africa (Projects involving multiple countries encouraged, but both single- and multiple-country projects accepted)

Eligible countries: Algeria, Bahrain, Egypt, Iraq, Jordan, Kuwait, Lebanon, Morocco, Oman, Saudi Arabia, Syria, Qatar, United Arab Emirates, Yemen.

Contacts: Thomas Johnston, tel: (202) 619-5325, e-mail: JohnstonTJ@state.gov; Katherine Van de Vate, tel: (202) 619-5320, e-mail: VandevateK@state.gov.

South Asia (Projects involving multiple countries encouraged, but both single- and multiple-country projects accepted)

Eligible countries: Afghanistan, Bangladesh, India, Pakistan, Sri Lanka.

Contacts: Thomas Johnston, tel: (202) 619-5325, e-mail: JohnstonTJ@state.gov; Katherine Van de Vate, tel: (202) 619-5320, e-mail: VandevateK@state.gov.

(2) Governance, Accountability, and Transparency in Civil Society

ECA welcomes proposals that will develop common approaches to strengthening transparency, citizen involvement, and effective fiscal management in government and demonstrate how this can benefit government leaders, non-governmental entities, and individual citizens and promote economic well being. Proposals in this theme should include program objectives that clearly respond to the following goals:

(1) To promote governance that is more transparent and responsive to citizens' concerns;

(2) To increase understanding of techniques to improve governance, anti-corruption, and accountability practices;

(3) To develop professional and personal linkages between U.S. and overseas individuals, institutions, and communities that will lead to sustained interaction in the future.

Projects should develop strategies that promote fair and transparent governance in the targeted countries. Projects must be culturally sensitive, sustainable, and address specific needs of the country or a region in that country. Individual projects might: (1) Consider ways that a country or region can improve its legislative process by encouraging and supporting citizen involvement; (2) develop programs, regulations, and services that increase citizen trust and expand the democratic process at the local and provincial levels; and (3) provide opportunities to elected officials and their key staff to find ways to promote transparency in government. Additionally, projects might address the important role of legislative transparency and effective fiscal management in short- and long-term economic development.

Africa (single- or multiple-country projects accepted)

Eligible countries: Angola, Burundi, Democratic Republic of Congo, Djibouti, Ethiopia, Kenya, Liberia, Nigeria, Sierra Leone, Uganda.

Contacts: Curtis Huff, tel: (202) 619-5972, e-mail: HuffCE@State.gov; Carol Herrera, tel: (202) 619-5405, e-mail: HerreraCA1@state.gov.

East Asia (single-country projects only)

Eligible countries: China, Indonesia.

Contact: Douglas McNeal, tel: (202) 260-5485, e-mail: McNealDB@state.gov.

Europe and Eurasia (single-country projects only)

Eligible countries: Albania, Russia, Serbia and Montenegro.

Contact: Henry Scott, tel: (202) 619-5327, e-mail: ScottHC@state.gov.

For Serbia and Montenegro (SaM): Since the overthrow of the Slobodan Milosevic in October 2000, reform in Serbia and Montenegro has been uneven. Currently SaM faces the burdens of: (1) The legacy of more than a decade of wars and sanctions; (2) the still unfulfilled obligations to the International Criminal Tribunal for the Former Yugoslavia; (3) unresolved relationships with Montenegro and the UN Administered province of Kosovo; and (4) the development of a large ultra-nationalist, anti-reform party. Projects that would be most useful would address the following issues: (1) Devolution of power from the Republic government to local bodies, including police, justice, and education; (2) enhancing the rule of the law (training prosecutors and judges and increasing anti-corruption resources); and (3) designing civic education to address the legacies of the past and prepare citizens and leaders for the future in a Western-style democracy. Applicants should be very familiar with current initiatives designed to promote effective governance in SaM and should be willing to cooperate with other USG-funded institutions working in SaM to prevent duplication of efforts.

Near East/North Africa (Projects involving multiple countries encouraged, but both single- and multiple-country projects accepted)

Eligible countries: Algeria, Egypt, Iraq, Jordan, Lebanon, Morocco, Palestinian Authority, Syria, Tunisia.

Contact: Thomas Johnston, tel: (202) 619-5325, e-mail: JohnstonTJ@state.gov; Katherine Van de Vate, tel: (202) 619-5320, e-mail: VandevateK@state.gov.

South Asia (Projects involving multiple countries encouraged, but both single- and multiple-country projects accepted)

Eligible countries: Afghanistan, Bangladesh, India, Nepal Pakistan, Sri Lanka.

Contact: Thomas Johnston, tel: (202) 619-5325, e-mail: JohnstonTJ@state.gov; Katherine Van de Vate, tel: (202) 619-5320, e-mail: VandevateK@state.gov.

Western Hemisphere (single- or multiple-country projects accepted)

Eligible countries: Central America and the Andean Region.

Contact: Laverne Johnson, tel: (202) 619-5337, JohnsonLV@state.gov.

(3) Conflict Prevention and Management

Projects for this theme should bring together professionals and community members to prevent, manage, and resolve conflict. Program objectives should respond to the following goals for this theme:

(1) To develop effective approaches for preventing and mitigating conflict between and within communities;

(2) To increase understanding of the values underlying different conflict prevention and management techniques;

(3) To develop professional and personal linkages between U.S. and overseas individuals, institutions, and communities that will lead to sustained interaction in the future.

Proposals must demonstrate strong expertise in the target country and local community(ies) to address effectively the sensitive and competing interests of target populations. ECA strongly encourages proposals that include two-way exchanges of participants, as well as the development and use of sustainable training models and training materials. Applicants should demonstrate their knowledge of the community or groups experiencing conflict (ethnic, religious, labor, border issues, environmental vs. business disputes, etc.) or that have the potential for conflict, and proposal narratives should outline specifically how the project will introduce dialogue and approaches to effect positive outcomes. Participants may include NGO leaders, local government officials, journalists, representatives of the legal/law enforcement community, educators, and youth. Participants should have the potential to implement conflict prevention and management techniques addressed during the program.

Africa (single- or multiple-country projects accepted)

Eligible countries: Angola, Burundi, DRC, Cote d'Ivoire, Eritrea, Ethiopia, Guinea, Liberia, Nigeria, Sierra Leone, Sudan.

Contacts: Curtis Huff, tel: (202) 619-5972, e-mail: HuffCE@State.gov; Carol Herrera, tel: (202) 619-5405, e-mail: HerreraCA1@state.gov.

East Asia (single-country projects only)

Eligible countries: China, The Republic of Korea, Taiwan.

Contact: Douglas McNeal, tel: (202) 260-5485, e-mail: McNealDB@state.gov.

Europe (Cyprus or Kosovo only)

Eligible countries/regions: Cyprus (see further guidance, below), Kosovo (see further guidance, below).

For Cyprus: Applicants should consult with the Public Affairs Section of the U.S. embassy in Nicosia to engage members of the youth arms of Greek Cypriot and Turkish Cypriot political parties. Programs might focus on mediation skills, cultural tolerance, mobilization of grassroots campaigns, and leadership skills.

For Kosovo: Projects should address ethnic conflict and the creation of tolerance, particularly among youth, in Kosovo. ECA will give priority to projects that are multi-ethnic in nature, both in terms of participants and curriculum, and that include Kosovo Serbs and Kosovo Albanians. Participants may include educators or persons who work with young people on a regular basis. Strong proposals will demonstrate an awareness of linguistic differences and will include plans to incorporate different languages within the project. The Bureau encourages applicants to involve local governments or Kosovar institutions in some aspect of the project.

Near East/North Africa (Projects involving multiple countries encouraged, but both single- and multiple-country projects accepted)

Eligible countries: Egypt, Iraq, Israel, Jordan, Morocco, Palestinian Authority, Syria.

Contact: Thomas Johnston, tel: (202) 619-5325, e-mail: JohnstonTJ@state.gov; Katherine Van de Vate, tel: (202) 619-5320, e-mail: VandevateK@state.gov.

South Asia (Projects involving multiple countries encouraged, but both single- and multiple-country projects accepted)

Eligible countries: India, Nepal, Pakistan, Sri Lanka.

Contact: Thomas Johnston, tel: (202) 619-5325, e-mail: JohnstonTJ@state.gov; Katherine Van de Vate, tel: (202) 619-5320, e-mail: VandevateK@state.gov.

(4) Respect for Cultural Identity and Creative Products

Background: Many societies perceive international economic integration and U.S. economic power as threats to their core values and cultural identities. ECA seeks proposals that will demonstrate to foreign audiences how the U.S. works with communities around the world to sustain cultural diversity and cultural integrity. Programs should engage U.S. cultural professionals, institutions, and community members in dialogues with international cultural stakeholders in projects designed to sustain creative spirit; demonstrate respect for cultural heritage, diversity and identity; and value and protect creative output (intellectual property rights/copyright issues). Proposals should state objectives that clearly address the following goals:

(1) To promote community awareness and participation in grass-roots mechanisms to address issues of local cultural significance and maintain cultural awareness in a diverse society;

(2) To promote common values between the U.S. and foreign countries of respect for cultural products and heritage, and to produce collaborative mechanisms that promote these values;

(3) To develop professional and personal linkages between U.S. and overseas individuals, institutions, and communities that will lead to sustained interaction in the future.

Program activities should not focus on the creation of art or cultural objects, but on the capacity of communities to address issues of local cultural significance. Proposals should include U.S.-based and in-country activities. Projects should bring experts and practitioners in the U.S. and overseas together in hands-on sessions to explore and develop innovative approaches to cultural issues. Proposals should demonstrate that applicant organizations possess a thorough understanding of the current state and needs of the target countries/regions in one of the four sub-themes below. Proposals that propose support for academic research or faculty/student fellowships, production or presentation of artistic works, or commercial business enterprises will be considered technically ineligible.

For questions about all sub-topics in this theme, please contact Christina Miner, tel: (202) 401-7342, e-mail: MinerCX@state.gov.

Specific Themes

4.a. Cultural Heritage (Artifacts/Objects)

Proposals in this topic should focus on cooperative approaches between organizations or institutions in the U.S. and overseas to deter the illicit trade in cultural artifacts or antiquities. Projects should focus on innovative approaches to protect the contexts within which objects are found, to verify and validate ownership of objects pertaining to local cultural heritage, to communicate effectively about cultural artifacts and heritage issues, and to adopt positive means of deterring illicit trade in cultural properties. Project activities could encompass exchanges, training workshops and other activities relating to the protection of archaeological sites as the sources of pillaged objects; improving security in museums, historic building and other cultural institutions so that objects are less vulnerable to theft; and designing and implementing efforts to inventory and document valued objects and collections in formal museums, as well as in religious and educational establishments, and other locations accessible by the public.

Eligible Countries: Applicants should propose a coherent group of countries with a statement of their rationale for this choice of target countries. Projects may include countries from multiple regions.

4.b. Cultural Identity in a Diverse Society

Proposals in this topic should address ways that local indigenous communities might sustain their cultural identity in a diverse and dynamic society. Projects should exchange expertise and best practices between U.S. and overseas community leaders and members of indigenous groups. Participants should address ways that these populations can manage identity-defining customs, rituals, art forms, or relationships within a broader cultural context (national cultural identity) in a manner that benefits the entire community without compromising the integrity of these practices.

Western Hemisphere

Eligible countries/Regions: Central America and the Andean region.

4.c. Cultural Institutions in a Democratic Society

Projects should focus on ways that local institutions can maintain cultural heritage in a manner responsive to the local community, while respecting cultural diversity and democracy in the broader environment. Projects in this theme should expose managers and staff of locally-based community organizations and other community members, as appropriate, to effective means of managing cultural institutions for the benefit of local communities, including youth outreach and educational activities, without disparaging other cultures or compromising national identity. Projects might focus on institutions such as local historical societies, museums, arts societies, or other organizations involved in cultural heritage. Projects should move beyond technical or day-to-day operational tasks to focus on organizational management, transparency, public outreach, and good governance of cultural institutions. Proposals must demonstrate a practical and sophisticated knowledge of the local non-governmental organization environment.

Africa

Eligible countries: Region-wide.

East Asia

Eligible countries: The Republic of Korea, China.

Europe

Eligible countries: Poland, Hungary, Slovenia, Czech Republic, Slovakia (Proposals should include at a minimum three of these countries).

Near East

Eligible countries: Region-wide.

South Asia

Eligible countries: Bangladesh, India, Nepal, Pakistan.

4.d. Creative and Cultural Property (ECA encourages multi-country / multi-regional project proposals under this theme)

All societies will gain if the global community recognizes creators of cultural property as having a legitimate claim to compensation for the use of their work. ECA seeks innovative proposals to address the protection of intellectual creativity (IPR/copyright) worldwide through a high-level professional exchange. Applicants should engage legislators, enforcement professionals, legal experts, and the judiciary to evaluate techniques designed to deter copyright infringement, and to limit production and exportation of pirated products. Program content should focus on increasing expertise in intellectual property law and improving prosecution rates for intellectual property offenses, particularly as they relate to copyright infringement.

Eligible countries: Projects on copyright/intellectual property may include some or all of the following countries: Brazil, China, India, Israel, Malaysia, and Russia.

Suggested Program Designs: Bureau-supported exchanges may include internships; study tours; short-term, non-technical experiential learning; extended and intensive workshops; and seminars taking place in the United States or overseas as long as these seminars promote intensive exchange of ideas among participants in the project. Examples of program activities include:

1. A U.S.-based program that includes an orientation to program purposes and to U.S. society; study tour/site visits; professional internships/placements; interaction and dialogue; hands-on training; professional development; and action plan development.

2. Capacity-building/training-of-trainer (TOT) workshops to help participants to identify priorities, create work plans, strengthen professional and volunteer skills, share their experience with committed people within each country, and become active in a practical and valuable way.

3. Site visits by U.S. facilitators/experts to monitor projects in the region and to encourage further development, as appropriate.

Activities Ineligible for Support: The Office does not support proposals limited to conferences or seminars (i.e., one-to fourteen-day programs with plenary sessions, main speakers, panels, and a passive audience). It will support conferences only when they are a small part of a larger project in duration that is receiving Bureau funding from this competition. No funding is available exclusively to send U.S. citizens to conferences or conference-type seminars overseas; nor is funding available for bringing foreign nationals to conferences or to routine professional association meetings in the United States. The Office of Citizen Exchanges does not support academic research or faculty or student fellowships.

Participant Selection: Proposals should clearly describe the types of persons that will participate in the program as well as the participant selection process. For programs that include U.S. internships, applicants should submit letters of support from host institutions. In the selection of foreign participants, the Bureau and U.S. embassies retain the right to review all participant nominations and to accept or refuse participants recommended by grantee institutions. When U.S. participants are selected, grantee institutions must provide their names and brief biographical data to the Office of Citizen Exchanges. Priority in two-way exchange proposals will be given to foreign participants who have not previously traveled to the United States.

Security Considerations: With regard to projects focusing on Afghanistan, Pakistan, and Iraq, applicants should be aware of security issues that will affect the ability of the grantee organization to arrange for the travel of U.S. citizens to these countries or to conduct site visits, participant interviews, seminars, workshops, or training sessions there. All travel to, and activities conducted in these countries will be subject to consultation with and approval of official U.S. security personnel in country. The applicant organization should be prepared to modify timing or to reconfigure project implementation plans as required by security considerations.

II. Award Information

Type of Award: Grant.

Fiscal Year Funds: FY-2005.

Approximate Total Funding: Pending availability of funding, $8 million.

Approximate Number of Awards: 35-40.

Approximate Average Award: $60,000-$250,000.

Floor of Award Range: $30,000.

Ceiling of Award Range: Approximately $250,000.

Anticipated Award Date: Pending availability of funds, July 31, 2005.

Anticipated Project Completion Date: July 31, 2006-May 31, 2009. Projects under this competition may range in length from 1-3 years depending on the number of project components, the country/region targeted and the extent of the evaluation plan proposed by the applicant. The Office of Citizen Exchanges strongly encourages applicant organizations to plan enough time after project activities to measure project outcomes. Please refer to the Program Monitoring and Evaluation section, below, for further guidance on evaluation.

III. Eligibility Information

III.1. Eligible Applicants

Applications may be submitted by U.S. public and private non-profit organizations meeting the provisions described in Internal Revenue Code section 26 U.S.C. 501(c)(3).

III.2. Cost Sharing or Matching Funds

There is no minimum or maximum percentage required for this competition. However, the Bureau encourages applicants to provide maximum levels of cost sharing and funding in support of proposed programs. Cost sharing is an important element of the ECA-grantee institution relationship, and it demonstrates the implementing organization's commitment to the program. Cost sharing is included as one criterion for grant proposal evaluation. When cost sharing is offered, it is understood and agreed that the applicant must provide the amount of cost sharing as stipulated in its proposal and later included in an approved grant agreement. Cost sharing may be in the form of allowable direct or indirect costs. For accountability, successful applicants must maintain written records to support all costs that are claimed as applicant contributions as well as costs to be paid by the Federal government. Such records are subject to audit. The basis for determining the value of cash and in-kind contributions must be in accordance with OMB Circular A-110, (Revised), Subpart C.23—Cost Sharing and Matching. In the event that successful applicants do not provide the minimum amount of cost sharing as stipulated in the approved budget, the Bureau's contribution will be reduced in like proportion.

III.3. Other Eligibility Requirements

Grants awarded to eligible organizations with less than four years of experience in conducting international exchange programs will be limited to $60,000.

IV. Application and Submission Information

Note: Please read the complete Federal Register announcement before sending inquiries or submitting proposals. Once the RFGP deadline has passed, Bureau staff may not discuss this competition with applicants until the proposal review process has been completed.

IV.1. Contact Information To Request an Application Package

Please contact the Office of Citizen Exchanges, ECA/PE/C, Room 220, U.S. Department of State, SA-44, 301 4th Street, SW., Washington, DC 20547, tel.: (202) 260-6230 or (202) 401-6885; fax: (202) 619-4350; e-mail: GustafsonDP@state.gov or RectorVA@state.gov to request a Solicitation Package. Please refer to the Funding Opportunity Number ECA/PE/C-05-01 when making your request.

The Solicitation Package contains the Proposal Submission Instruction (PSI) document that consists of required application forms, and standard guidelines for proposal preparation.

Please specify the Bureau Program Officer listed for each region and theme above and refer to Funding Opportunity Number ECA/PE/C-05-01 for all specific inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and ten copies (11 proposals total) of the application should be sent per the instructions under IV.3f. “Submission Dates and Times section” below.

IV.3a. Applicant institutions are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. Applicant institutions must have nonprofit status with the U.S. Internal Revenue Service (IRS) at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to all Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and requires all grantee program organizations and program participants to adhere to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from:

United States Department of State, Office of Exchange Coordination and Designation, ECA/EC/ECD—SA-44, Room 734, 301 4th Street, SW., Washington, DC 20547, Telephone: (202) 401-9810, fax: (202) 401-9809.

IV.3d.2. Diversity, Freedom and Democracy Guidelines

Pursuant to the Bureau's authorizing legislation, programs must maintain a non-political character and should be balanced and representative of the diversity of American political, social, and cultural life. Diversity should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

The Bureau places significant emphasis on monitoring and evaluation of its initiatives. Proposals must include a plan to monitor and evaluate the project's success, both as the activities unfold and at the end of the program. Applicants should include a monitoring and evaluation plan that clearly distinguishes between program outputs and outcomes. Outputs are products and services delivered, often stated as the number of people trained or the number of seminars conducted. Outcomes, in contrast, represent specific results a project is intended to achieve and is usually measured as an extent of change. Findings on outputs and outcomes should both be reported, but the focus should be on outcomes. The more that outcomes are “smart” (specific, measurable, attainable, results-oriented, and placed in a reasonable time frame), the easier it will be to conduct the evaluation.

The Bureau encourages applicants to assess the following four levels of outcomes, as they relate to the program goals set out in the RFGP (listed here in order of importance):

1. Institutional changes, such as increased collaboration and partnerships, policy reforms, new programming, and organizational improvements.

2. Participant behavior, concrete actions on the part of program participants to apply knowledge in work or community; greater participation and responsibility in civic organizations; interpretation and explanation of experiences and new knowledge gained; continued contacts between participants, community members, and others.

3. Participant learning, such as increased knowledge, aptitude, skills, and changed understanding and attitude. Learning includes both substantive (subject-specific) learning and mutual understanding.

4. Participant satisfaction with the program and exchange experience.

Overall, the quality of monitoring and evaluation plans will be judged on how well they: (1) Specify intended outcomes; (2) give clear descriptions of how each outcome will be measured; (3) identify when particular outcomes will be measured; and (4) provide a clear description of the data collection strategies for each outcome (i.e., surveys, interviews, or focus groups).

Consideration should be given to the appropriate timing of data collection for each level of outcome. For example, participant satisfaction is usually captured as a short-term outcome, whereas behavior and institutional changes are normally considered longer-term outcomes.

The Bureau recommends that proposals include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions).

Applicants may include costs in their program budgets to hire an outside evaluator to assess project impact. In the case that an external evaluator is hired, the proposal should include information on the evaluator's experience as well as all of the information requested above.

Grantees will be required to provide reports (See VI.3, “Reporting Requirements” below) analyzing their evaluation findings to the Bureau in their regular program reports. Information and feedback provided through program monitoring will form the basis for interim reports, and grantee organizations should share any lessons learned and/or organizational challenges with Bureau program officers in these reports. Final evaluations will form the basis of the final program report. Grantee organizations will be required to provide summary data in tabular and graphic form to demonstrate the conclusions of the evaluation and examples of all data collection instruments used in the evaluation. All data collected, including survey responses and contact information, must be maintained for a minimum of three years and provided to the Bureau upon request.

IV.3e. Applicants should take the following information into consideration when preparing project budgets:

IV.3e.1. Applicants must submit a comprehensive budget for the entire program. For this competition, requests should not exceed approximately $250,000. The Bureau reserves the right to reduce, revise, or increase proposal budgets in accordance with the needs of the program and the availability of funds. Proposal budgets must include a summary budget as well as breakdowns reflecting both administrative and program costs. Applicants may provide separate sub-budgets for each program component, phase, location, or activity to provide clarification.

IV.3e.2. Allowable costs for the program include the following:

1. Travel. International and domestic airfare (per the “Fly America Act”), ground transportation, and J-1 visas for U.S.-bound participants. (J-1 visas for ECA-supported participants are issued at no charge.)

2. Per Diem. For U.S.-based programming, organizations should use the published Federal per diem rates for individual U.S. cities. Domestic per diem rates may be accessed at: http://policyworks.gov/org/main/mt/homepage/mtt/perdiem/perd03d.html. ECA requests applicants to budget realistic costs that reflect the local economy and do not exceed Federal per diem rates. Foreign per diem rates can be accessed at: http://www.state.gov/m/a/als/prdm/html.

3. Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally.

4. Book and Cultural Allowances. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria rates should not exceed $250 per day. Organizations are encouraged to cost-share rates that would exceed that figure. Subcontracting organizations may also be employed, in which case the written agreement between the prospective grantee and subcontractor should be included in the proposal. Such subcontracts should detail the division of responsibilities and proposed costs, and subcontracts should be itemized in the budget.

6. Room rental. The rental of meeting space should not exceed $250 per day. Any rates that exceed this amount should be cost shared.

7. Materials. Proposals may contain costs to purchase, develop and translate materials for participants. Costs for high quality translation of materials should be anticipated and included in the budget. Grantee organizations should expect to submit a copy of all program materials to ECA, and ECA support should be acknowledged on all materials developed with its funding.

8. Equipment. Applicants may propose to use grant funds to purchase equipment, such as computers and printers. Costs for furniture are not allowed.

9. Working meal. Only one working meal may be provided during the program. Per capita costs may not exceed $8 for a lunch and $20 for a dinner, excluding room rental. The number of invited guests may not exceed participants by more than a factor of two-to-one. When setting up a budget, interpreters should be considered “participants.”

10. Return travel allowance. A return travel allowance of $70 for each foreign participant may be included in the budget. This allowance would cover incidental expenses incurred during international travel.

11. Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. Wire transfer fees. When necessary, applicants may include costs to transfer funds to partner organizations overseas. Grantees are urged to research applicable taxes that may be imposed on these transfers by host governments.

13. In-country travel costs for visa processing purposes. Given the requirements associated with obtaining J-1 visas for ECA-supported participants, applicants should include costs for any travel associated with visa interviews or DS-2019 pick-up.

14. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive on cost effectiveness. Proposals should show strong administrative cost sharing contributions from the applicant, the in-country partner and other sources.

Please refer to the Solicitation Package for complete budget guidelines and formatting instructions.

IV.3f. Submission Dates and Times

Application Deadline Date: Friday, November 19, 2004.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package. Expensive paper and bindings or elaborate visual or other presentation aids are neither necessary nor desired.

Important note: When preparing your submission please make sure to include one extra copy of the completed SF-424 form and place it in an envelope addressed to “ECA/EX/PM”.

The original and ten (total of 11) copies of the application (bound with large binder clips) should be sent to:

U.S. Department of State, SA-44, Bureau of Educational and Cultural Affairs, Ref.: ECA/PE/C-05-01, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3h.1. Funding Restrictions: Funding restrictions, which must be taken into account while writing your budget are as follows:

Applicants may not submit more than two (2) proposals per program theme and may not submit more than four (4) proposals total for this competition. Organizations that submit proposals that exceed these limits will result in having all of their proposals declared technically ineligible, and none of the submissions will be reviewed by a State Department panel.

IV.3h.2. Applicants must also submit the “Executive Summary” and “Proposal Narrative” sections of the proposal in text (.txt) format on a PC-formatted disk. The Bureau will provide these files electronically to the appropriate Public Affairs Section(s) at the U.S. embassy(ies) and, where required, U.S. consulate(s) for review.

V. Application Review Information

V.1. Review Process

The Bureau will review all proposals for technical eligibility. Proposals will be deemed ineligible if they do not fully adhere to the guidelines stated herein and in the Solicitation Package. The program office, as well as the Public Diplomacy section overseas, where appropriate, will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program Planning and Ability to Achieve Objectives: Program objectives should be stated clearly and should reflect the applicant's expertise in the subject area and region. Objectives should respond to the priority topics in this announcement and should relate to the current conditions in the target country/countries. A detailed agenda and relevant work plan should explain how objectives will be achieved and should include a timetable for completion of major tasks. The substance of workshops, internships, seminars and/or consulting should be described in detail. Sample training schedules should be outlined. Responsibilities of proposed in-country partners should be clearly described.

2. Institutional Capacity: Proposals should include (1) the institution's mission and date of establishment; (2) detailed information about proposed in-country partner(s) and the history of the partnership; (3) an outline of prior awards—U.S. government and/or private support received for the target theme/country/region; and (4) descriptions of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

3. Cost Effectiveness and Cost Sharing: Overhead and administrative costs in the proposal budget, including salaries, honoraria and subcontracts for services, should be kept to a minimum. Priority will be given to proposals whose administrative costs are less than twenty-five (25) per cent of the total funds requested from the Bureau. Applicants are strongly encouraged to cost share a portion of overhead and administrative expenses. Cost-sharing, including contributions from the applicant, proposed in-country partner(s), and other sources should be included in the budget request. Proposal budgets that do not reflect cost sharing will be deemed not competitive in this category.

4. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI) and the Diversity, Freedom and Democracy Guidelines section above for additional guidance.

5. Post-Grant Activities: Applicants should provide a plan to conduct activities after the Bureau-funded project has concluded in order to ensure that Bureau-supported programs are not isolated events. Funds for all post-grant activities must be in the form of contributions from the applicant or sources outside of the Bureau. Costs for these activities should not appear in the proposal budget, but should be outlined in the narrative.

6. Evaluation: Proposals should include a detailed plan to monitor and evaluate the program. Program objectives should target clearly defined results in quantitative terms. Competitive evaluation plans will describe how applicant organizations would measure these results, and proposals should include draft data collection instruments (surveys, questionnaires, etc.) in Tab E. See the “Evaluation” section (above) for more information on the components of a competitive evaluation plan. Successful applicants (grantee institutions) will be expected to submit a report after each program component concludes or on a quarterly basis, whichever is less frequent. The Bureau also requires that grantee institutions submit a final narrative and financial report no more than 90 days after the expiration of a grant. Please refer to the “Evaluation” section above for more guidance.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”'.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web-sites for additional information:

http://www.whitehouse.gov/omb/grants.

http://exchanges.state.gov/education/grantsdiv/terms.htm#articleI.

VI.3. Reporting Requirements

Winning applicants must provide ECA with a hard copy original plus two copies of the following reports:

(1) A final program and financial report no more than 90 days after the expiration of the award;

(2) Any interim report(s) required in the Bureau grant agreement document.

Grantees will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer (two copies) and ECA Program Officer (one copy) listed in the final assistance award document.

VI.4. Optional Program Data Requirements

Successful applicants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S.-based activities must be received by the ECA Program Officer at least three workdays prior to the official opening of the activity.

VII. Agency Contacts

For questions about this announcement, contact: The Office of Citizen Exchanges, ECA/PE/C, Room 220, ECA/PE/C-05-01, Bureau of Educational and Cultural Affairs, U.S. Department of State, SA-44, 301 4th Street, SW., Washington, DC 20547, tel.: (202) 260-6230 or (202) 401-6885; fax: (202) 619-4350; GustafsonDP@state.gov or RectorVA@state.gov.

All correspondence with the Bureau concerning this RFGP should reference the above title and number ECA/PE/C-05-01.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: September 23, 2004.
C. Miller Crouch,
Principal Deputy Assistant Secretary, Bureau of Educational and Cultural Affairs, Department of State.

[FR Doc. 04-22000 Filed 9-29-04; 8:45 am]

BILLING CODE 4710-05-P